DEPARTMENT OF LABOR

Employment and Training Administration

[TA-W-39,592 and TA-W-39,592A]

Viceroy Gold, Castle Mountain Mine, Searchlight, NV and Viceroy Gold, Castle Mountain Mine, Ivanpah, CA; Amended Certification Regarding Eligibility To Apply for Worker Adjustment Assistance

In accordance with section 223 of the Trade Act of 1974 (19 U.S.C. 2273) the Department of Labor issued a Certification of Eligibility to Apply for Worker Adjustment Assistance on August 7, 2002, applicable to workers of Viceroy Gold Corporation, Castle Mountain Mine, Searchlight, Nevada. The notice was published in the Federal Register on August 23, 2001 (66 FR 44378). The certification was amended on April 23, 2002, to include workers of MK Gold Company, Searchlight, Nevada, engaged in employment related to the production of gold and silver doré at the Castle Mountain mine.

At the request of a company official, the Department reviewed the certification for workers of the subject firm. Information contained in the record and noted in the decision document shows that the mine expands into San Bernardino County, California. The company reports that workers of the mine in California, specifically Ivanpah, are being separated from employment.

It is the Department's intent to include all workers of Viceroy Gold Corporation, Castle Mountain Mine, affected by increased imports of gold and silver in doré bar form. Accordingly, the Department is amending the certification to include all workers of Viceroy Gold Corporation, Castle Mountain Mine, Ivanpah, California.

The amended notice applicable to TA-W-39,592 is hereby issued as follows:

All workers of Viceroy Gold Corporation, Castle Mountain Mine, Searchlight, Nevada, and workers of MK Gold Company engaged in employment related to the production of gold and silver in doré bar form at Viceroy Gold Corporation, Castle Mountain Mine, Searchlight, Nevada (TA-W-39,592); and all workers of Viceroy Gold Corporation, Castle Mountain Mine, Ivanpah, California (TA-W-39,592A), who became totally or partially separated from employment on or after June 20, 2000, through August 7, 2003, are eligible to apply for adjustment assistance under section 223 of the Trade Act of 1974.

Signed at Washington, DC, this 27th day of January, 2003.
Linda G. Poole,
Certifying Officer, Division of Trade Adjustment Assistance.

[FR Doc. 03-13816 Filed 6-2-03; 8:45 am]

BILLING CODE 4510-30-P